DEPARTMENT OF LABOR

Office of the Secretary

Submission or OMB Review; Comment Request

October 11, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection.

Agency: Employment and Training Administration (ETA).

Title: Unemployment Insurance Data Validation Program.

OMB Number: 1205-ONEW.

Affected Public: State, Local, or Tribal Government; Federal Government.

Number of Respondents: 53.

Type of Response: Reporting.

Requirement | Number of annual responses | Frequency | Estimated time per response (hours) | Annual burden hours.
Full Data Validation | 18 | Every 3 years | 1,600 | 28,267
Partial Data Validation ¹ | 12 | Annually | 160 | 1,920
Totals | 30 |  |  | 30,187
¹ Partial data validation only occurs in years when full data validation is not conducted.

Total Annualized Capital/Startup Costs: $3,525,000.

Total Annual Costs (operating/maintaining systems of purchasing services): $873,612.

Description: In accordance with Section 303(a)(6) of the Social Security Act, The Unemployment Insurance Data Validation Program would require States to implement and operate a system for ascertaining the validity of unemployment insurance data they submit to ESA. Some of these date are used to assess performance or determine State grants for UI administration.

Ira L. Mills,
Departmental Clearance Officer.

[FR Doc. 01-26344 Filed 10-18-01; 8:45 am]

BILLING CODE 4510-30-M